DEPARTMENT OF COMMERCE

International Trade Administration

[C-357-826]

White Grape Juice Concentrate From Argentina: Postponement of Preliminary Determination in the Countervailing Duty Investigation

AGENCY: Enforcement and Compliance, International Trade Administration, Department of Commerce.

DATES: Applicable June 9, 2022.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On April 20, 2022, the U.S. Department of Commerce (Commerce) initiated a countervailing duty (CVD) investigation of imports of white grape juice concentrate from Argentina.¹ Currently, the preliminary determination is due no later than June 24, 2022.

¹ See White Grape Juice Concentrate from the Republic of Argentina: Initiation of Countervailing Duty Investigation, 87 FR 24945 (April 27, 2022).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is Delano Growers Grape Products, LLC.

On May 31, 2022, the petitioner submitted a timely request that Commerce postpone the preliminary determination.³ The petitioner stated that postponement “is warranted to permit Commerce to develop the record in this investigation,” and that “{a}dditional time will be necessary to ensure that {Commerce} is able to sufficiently review all questionnaire responses, issue supplemental questionnaires as appropriate, and prepare an accurate preliminary determination.” ⁴

³ See Petitioner's Letter, “Petition for the Imposition of Countervailing Duty: White Grape Juice Concentrate from Argentina; Petitioner's Request for Postponement of Preliminary Determinations,” dated May 31, 2022.

⁴ Id.

In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., August 29, 2022.⁵ Pursuant to section 705(a)(1) of the Act and 19 CFR 351.210(b)(1), the deadline for the final determination of this investigation will continue to be 75 days after the date of the preliminary determination.

⁵ Postponing the preliminary 130 days after initiation would place the deadline on Sunday, August 28, 2022. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: June 3, 2022.
Lisa W. Wang,
Assistant Secretary for Enforcement and Compliance.

[FR Doc. 2022-12431 Filed 6-8-22; 8:45 am]

BILLING CODE 3510-DS-P